DEPARTMENT OF THE TREASURY

Submission for OMB Review; Comment Request

April 20, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 30, 2000, to be assured of consideration.

Bureau of the Public Debt (PD)

OMB Number: 1535-0060.

Form Number: PD F 2488-1.

Type of Review: Extension.

Title: Certificate by Legal Representative(s) of Decedent's Estate During Administration of Authority to Act and of Distribution Where Estate Holds No More Than $1,000 (face amount) U.S. Savings and Retirement Securities.

Description: PD F 2488-1 is used by legal representatives of decedent's estate to establish authority to act and to request disposition of securities.

Respondents: Individuals or households.

Estimated Number of Respondents: 6,300.

Estimated Burden Hours Per Respondent: 15 minutes.

Frequency of Response: On occasion.

Estimated Total Reporting Burden Hours: 1,575 hours.

OMB Number: 1535-0118.

Form Number: PD F 5336.

Type of Review: Extension.

Title: Application for Disposition, United States Savings Bonds/Notes and/or Related Checks Owned by Decedent Whose Estate is Being Settled Without Administration.

Description: PD F 4881 is used by person(s) entitled to a decedent's estate not being administered to request payment or reissue of Savings Bonds/Notes and/or related checks.

Respondents: Individuals or households.

Estimated Number of Respondents: 80,000.

Estimated Burden Hours Per Respondent: 30 minutes.

Frequency of Response: On occasion.

Estimated Total Reporting Burden Hours: 40,000 hours.

Clearance Officer: Vicki S. Thorpe, (304) 480-6553, Bureau of the Public Debt, 200 Third Street, Parkersburg, West VA 26106-1328.

OMB Reviewer: Alexander T. Hunt, (202) 395-7860,

Office of Management and Budget, Room 10226, New Executive Office Building, Washington, DC 20503.

Lois K. Holland,
Departmental Reports Management Officer.

[FR Doc. 00-10459 Filed 4-26-00; 8:45 am]

BILLING CODE 4810-40-U